DEPARTMENT OF JUSTICE

Notice of Lodging of Consent Decree Under the Oil Pollution Act of 1990, the Federal Water Pollution Control Act, and the Comprehensive Environmental Response, Compensation and Liability Act

Notice is hereby given that, on June 28, 2004, proposed Consent Decrees in United States vs. Modesto Energy Limited Partnership, Modesto Environmental Corp., Enpower Management Corp., and CMS Generation Co., Civil Action No. S-04-1231 LKK KJM, were lodged with the United States District Court for the Eastern District of California.

In this action, the United States brought suit pursuant to the Oil Pollution Act of 1990 (“OPA”), 33 U.S.C. 2701 et seq., the Federal Water Pollution Control Act (“FWPCA”), 33 U.S.C. 1251 et seq. and the Comprehensive Environmental Response, Compensation and Liability Act (“CERCLA”), 42 U.S.C. 9601 et seq., seeking unreimbursed costs of approximately $3,430,564.74, exclusive of interest, incurred by the United States, and/or expended by the Oil Spill Liability Trust Fund, in responding to a tire fire/oil spill at the Westley “tires-to-energy” facility located in Westley, California. One Consent Decree provides for Modesto Energy Limited Partnership, et al., to pay $482,000 in Past Response Costs related to the release of oil and hazardous substances at the Site. The other Consent Decree provides for CMS Generation Co. to pay $475,000 in Past Response Costs related to the release of oil and hazardous substances at the Site.

The Department of Justice will receive, for a period of thirty (30) days from the date of this publication, comments relating to the Consent Decrees. Comments should be addressed to the Assistant Attorney General, Environment and Natural Resources Division, P.O. Box 7611, U.S. Department of Justice, Washington, DC 20044-7611, and should refer to U.S. vs. Modesto Energy Limited Partnership, et al. D.J. Ref. #90-5-1-1-07881.

The Consent Decrees may be examined at the Office of the United States Attorney, at 501 I Street, Suite 10-100 Sacramento, California 95814-2322. During the public comment period, the Consent Decrees may also be examined on the following Department of Justice Web site http://www.usdoj.gov/enrd/open.html. A copy of the Consent Decrees may also be obtained by mail from the Consent Decree Library, P.O. Box 7611, U.S. Department of Justice, Washington, DC 20044-7611 or by faxing a request to Tonia Fleetwood, fax no. (202) 514-0097, phone confirmation number (202) 514-1547. In requesting a copy from the Consent Decree Library, please enclose a check in the amount of $4.50 (25 cents per page reproduction cost) for each Consent Decree, payable to the U.S. Treasury.

Ellen M. Mahan,
Assistant Chief, Environmental Enforcement Section, Environment and Natural Resources Division.

[FR Doc. 04-15999 Filed 7-13-04; 8:45 am]

BILLING CODE 4410-15-M